FEDERAL COMMUNICATIONS COMMISSION

[OMB 3060-0139]

Information Collection Being Submitted for Review and Approval to the Office of Management and Budget

AGENCY: Federal Communications Commission.

ACTION: Notice and request for comments.

SUMMARY: As part of its continuing effort to reduce paperwork burdens, and as required by the Paperwork Reduction Act (PRA) of 1995 (44 U.S.C. 3501-3520), the Federal Communication Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the PRA that does not display a valid OMB control number.

DATES: Written comments should be submitted on or before February 27, 2015. If you anticipate that you will be submitting comments, but find it difficult to do so within the period of time allowed by this notice, you should advise the contacts below as soon as possible.

ADDRESSES: Direct all PRA comments to Nicholas A. Fraser, OMB, via email Nicholas_A._Fraser@omb.eop.gov; and to Cathy Williams, FCC, via email PRA@fcc.gov and to Cathy.Williams@fcc.gov. Include in the comments the OMB control number as shown in the SUPPLEMENTARY INFORMATION section below.

FOR FURTHER INFORMATION CONTACT: For additional information or copies of the information collection, contact Cathy Williams at (202) 418-2918. To view a copy of this information collection request (ICR) submitted to OMB: (1) Go to the Web page <http://www.reginfo.gov/public/do/PRAMain>, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION: OMB Control Number: 3060-0139.

Title: Application for Antenna Structure Registration.

Form Number: FCC Form 854.

Type of Review: Revision of a currently approved collection.

Respondents: Individuals or households, business or other for-profit entities, not-for-profit institutions, and State, local, or Tribal governments.

Number of Respondents and Responses: 2,400 respondents; 57,000 responses.

Estimated Time per Response: .33 hours to 2.5 hours.

Frequency of Response: On occasion reporting requirement, recordkeeping requirement and third party disclosure reporting requirement.

Obligation to Respond: Required to obtain or retain benefits. Statutory authority for this information collection is contained in Sections 1, 2, 4(i), 303, and 309(j) of the Communications Act of 1934, as amended, 47 U.S.C. 151, 152, 154(i), 303, and 309(j), Section 102(C) of the National Environmental Policy Act of 1969, as amended, 42 U.S.C. 4332(C), and Section 1506.6 of the regulations of the Council on Environmental Quality, 40 CFR 1506.6.

Total Annual Burden: 25,647 hours.

Total Annual Cost: $1,176,375.

Privacy Act Impact Assessment: Yes. This information collection contains personally identifiable information on individuals which is subject to the Privacy Act of 1974. Information on the FCC Form 854 is maintained in the Commission's System of Records, FCC/WTB-1, “Wireless Services Licensing Records.” These licensee records are publicly available and routinely used in accordance of subsection b of the Privacy Act, 5 U.S.C. 552a(b), as amended. Taxpayer Identification Numbers (TINs) and materials that are afforded confidential treatment pursuant to a request made under 47 CFR 0.459 of the Commission's rules will not be available for public inspection.

Nature and Extent of Confidentiality: Respondents may request materials or information submitted to the Commission be withheld from public inspection under 47 CFR 0.459 of the Commission's rules.

The Commission has in place the following policy and procedures for records retention and disposal: Records will be actively maintained as long as the entity remains a tower owner. Paper records will be archived after being keyed or scanned into the Antenna Structure Registration (ASR) database and destroyed when twelve (12) years old.

Needs and Uses: As discussed below, the Commission is revising the FCC Form 854 to implement measures adopted in a recent Report and Order, and is seeking Office of Management and Budget (OMB) approval for this information collection as revised. The Commission is also reporting an adjustment in the annual burden and annual cost due to an increase in the number of responses and minor increases in hourly wages. After the comment period, the Commission will submit the revised information collection to OMB to obtain the full three year clearance.

The purpose of the FCC Form 854 is to register antenna structures (radio towers) that are used for communication services regulated by the Commission; to make changes to existing antenna structure registrations or pending applications for registration; or to notify the Commission of the completion of construction or dismantlement of such structures, as required by Title 47 of the Code of Federal Regulations (CFR), Chapter 1. In addition, for proposed new antenna structures, the FCC Form 854 is used to facilitate a pre-application public notification process, including a required 30-day period of local and national notice to provide members of the public with a meaningful opportunity to comment on the environmental effects of proposed antenna structures that require registration with the Commission.

The Commission is revising this current information collection due to the adoption of FCC 14-153, Report and Order, which altered the public notification process for certain temporary towers. In the Report and Order, the Commission adopted a narrow exemption from the public notification process for proposed temporary antenna structures meeting defined criteria, including limits on the size and duration of the installation, that greatly reduce the likelihood of any significant environmental effects. Specifically, the exemption from the environmental notification process applies only to temporary antenna structures that: (1) Do not require an Environmental Assessment under the Commission's rules; (2) will be in place for 60 days or less; (3) require notice of construction to the Federal Aviation Administration (FAA); (4) do not require marking or lighting under FAA regulations; (5) will be less than 200 feet above ground level; and (6) will involve minimal or no ground excavation. The Report and Order also provided that applicants may request and obtain a single extension of up to 60 additional days upon an appropriate showing.

As a result, the FCC Form 854 is being revised to permit applicants to indicate that they are claiming the new exemption and certify that they meet the relevant requirements, and to request an extension. These changes are necessary to implement the new exemption from the public notification process for temporary antenna structures. They will therefore enable the Commission to more efficiently process antenna structure registrations and, by allowing licensees to deploy covered temporary structures without first having to complete the notification process, will enable them to more effectively respond to emergencies, natural disasters, and other planned and unplanned short-term spikes in demand without undermining the purposes of the notification process.

Federal Communications Commission.
Marlene H. Dortch,
Secretary, Office of the Secretary, Office of the Managing Director.

[FR Doc. 2015-01473 Filed 1-27-15; 8:45 am]

BILLING CODE 6712-01-P